DEPARTMENT OF COMMERCE

National Oceanic and Atmospheric Administration

RIN 0648-XF308

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council (Council) will hold public meetings of the Council and its Committees.

DATES: The meetings will be held on Tuesday, April 11 through Thursday, April 13, 2017. For agenda details, see SUPPLEMENTARY INFORMATION.

ADDRESSES: The meetings will be held at the Icona Golden Inn, 7849 Dune Drive, Avalon, NJ 08202; telephone: (609) 368-5155.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The following items are on the agenda, though agenda items may be addressed out of order (changes will be noted on the Council's Web site when possible).

Agenda

Tuesday, April 11, 2017

River Herring & Shad Committee

• Review draft metrics for river herring and shad conservation.

State of the Ecosystem and EAFM

• Report on the state of the Mid-Atlantic portion of the Northeast Large Marine Ecosystem, continue discussion and development of EAFM Risk Matrix, and discuss next steps in EAFM development/implementation.

Law Enforcement Reports

Chub Mackerel Amendment

• Review amendment development and scoping plans.

Wednesday, April 12, 2017

Ricks E Savage Award

Golden Tilefish Specifications

• Review SSC, Monitoring Committee, Advisory Panel, and staff recommendations regarding 2018-20 specifications.

• Adopt recommendations for 2018-20.

Blueline Tilefish Specifications

• Review SSC, Monitoring Committee, Advisory Panel, and staff recommendations regarding 2018-19 specifications.

• Adopt recommendations for 2018-19.

A Review of Potential Approaches for Managing Marine Fisheries in a Changing Climate Presentation

Hudson Canyon Sanctuary Proposal

• Presentation, discussion and comment.

Update on Standardized Bycatch Reporting Methodology

• Challenges faced in 2016-17 and plans for 2017-18.

Industry Funded Monitoring (IFM) Amendment

• Consider previous action on IFM Amendment.

• Possible adoption of IFM Amendment.

Thursday, April 13, 2017

Business Session

The day will conclude with Committee Reports, the Executive Director's Report, the Science Report, brief reports from the National Marine Fisheries Service's GARFO and the Northeast Fisheries Science Center, NOAA's Office of General Counsel, the ASMFC, the New England and South Atlantic Fishery Council's liaisons and the Regional Planning Body Report, and discuss any continuing and/or new business.

Special Accommodations

This meeting is physically accessible to people with disabilities. Requests for sign language interpretation or other auxiliary aids should be directed to M. Jan Saunders, (302) 526-5251, at least 5 days prior to the meeting date.

Dated: March 20, 2017.
Jeffrey N. Lonergan,
Acting Deputy Director, Office of Sustainable Fisheries, National Marine Fisheries Service.

[FR Doc. 2017-05789 Filed 3-22-17; 8:45 am]

BILLING CODE 3510-22-P